NUCLEAR REGULATORY COMMISSION

Notice of Availability of Model Application Concerning Technical Specification Improvement To Eliminate Post Accident Sampling Requirements for Babcock and Wilcox Reactors Using the Consolidated Line Item Improvement Process

AGENCY: Nuclear Regulatory Commission.

ACTION: Notice of availability.

SUMMARY: Notice is hereby given that the staff of the Nuclear Regulatory Commission (NRC) has prepared a model application relating to the elimination of post accident sampling requirements for Babcock and Wilcox (B&W) Reactors. The purpose of this model is to permit the NRC to efficiently process amendments that propose to remove requirements for Post Accident Sampling Systems (PASS) from Technical Specifications (TS). Licensees of nuclear power reactors to which the model applies may request amendments utilizing the model application.

DATES: The NRC staff issued a Federal Register Notice (68 FR 10052, March 3, 2003) which provided a model safety evaluation (SE) and a model no significant hazards consideration (NSHC) determination relating to elimination of requirements for PASS for B&W Reactors. The NRC staff hereby announces that the model SE and NSHC determination may be referenced in plant-specific applications to eliminate requirements for post accident sampling. The staff has posted a model application on the NRC web site to assist licensees in using the consolidated line item improvement process (CLIIP) to eliminate PASS-related TS. The NRC staff can most efficiently consider applications based upon the model application if the application is submitted within a year of this Federal Register Notice.

FOR FURTHER INFORMATION CONTACT: Robert Dennig, Mail Stop: O-12H4, Division of Regulatory Improvement Programs, Office of Nuclear Reactor Regulation, U.S. Nuclear Regulatory Commission, Washington, DC 20555-0001, telephone 301-415-1156.

SUPPLEMENTARY INFORMATION:

Background

Regulatory Issue Summary 2000-06, “Consolidated Line Item Improvement Process for Adopting Standard Technical Specification Changes for Power Reactors,” was issued on March 20, 2000. The CLIIP is intended to improve the efficiency of NRC licensing processes. This is accomplished by processing proposed changes to the standard technical specifications (STS) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or to proceed with announcing the availability of the change for proposed adoption by licensees. Those licensees opting to apply for the subject change to TS are responsible for reviewing the staff's evaluation, referencing the applicable technical justifications, and providing any necessary plant-specific information. Each amendment application made in response to the notice of availability will be processed and noticed in accordance with applicable rules and NRC procedures.

This notice involves the elimination of requirements for PASS and related administrative controls in TS for B&W Reactors. This proposed change was proposed for incorporation into the STS by the B&W Owners Group (BWOG) participants in the Technical Specification Task Force (TSTF) and is designated TSTF-442. TSTF-442 is supported by the NRC staff's SE dated November 14, 2002 (ADAMS Accession Number ML0225601190), for the BWOG topical report BAW-2387, “Justification for the Elimination of the Post Accident Sampling System (PASS) from the Licensing Basis of Babcock and Wilcox Plants,” which was submitted to the NRC on June 25, 2001. The BWOG request followed the staff's approval of similar requests for elimination of PASS requirements from the Combustion Engineering Owners Group (CEOG), the Westinghouse Owners Group (WOG), and the Boiling Water Reactor Owners Group (BWROG). TSTF-442 can be viewed on the NRC Web site: (www.nrc.gov/reactors/operating/licensing/techspecs/changes-issued-for-adoption.html).

Applicability

This proposed change to remove requirements for PASS from TS (and other elements of the licensing bases) is applicable to B&W Reactors.

To efficiently process the incoming license amendment applications, the staff requests each licensee applying for the changes addressed by TSTF-442 using the CLIIP to address the following plant-specific verifications and regulatory commitments. The CLIIP does not prevent licensees from requesting an alternative approach or proposing the changes without the requested verifications and regulatory commitments. Variations from the approach recommended in this notice may, however, require additional review by the NRC staff and may increase the time and resources needed for the review. In making the requested regulatory commitments, each licensee should address: (1) That the subject capability exists (or will be developed) and will be maintained; (2) where the capability or procedure will be described (e.g., severe accident management guidelines, emergency operating procedures, emergency plan implementing procedures); and (3) a schedule for implementation. The amendment request need not provide details about designs or procedures.

Each licensee should verify that it has, and make a regulatory commitment to maintain (or make a regulatory commitment to develop and maintain):

a. A capability for classifying fuel damage events at the Alert level threshold (typically this is 300 μCi/ml dose equivalent iodine). This capability may use a normal sampling system or correlations of letdown line dose rates to coolant concentrations;

b. Contingency plans for obtaining and analyzing highly radioactive samples from the reactor coolant system, containment sump, and containment atmosphere; and

c. Offsite capability to monitor radioactive iodines.

Public Notices

In a notice in the Federal Register dated March 3, 2003 (68 FR 10052), the staff requested comment on the use of the CLIIP to process requests to delete post-accident sampling requirements from B&W Reactors. The staff had previously issued notices of availability on the use of the CLIIP to process requests to delete post-accident sampling requirements from plants with Westinghouse and Combustion Engineering designs (65 FR 65018, October 31, 2000) and BWR designs (67 FR 13027, March 20, 2002). The notice of availability for Westinghouse and Combustion Engineering plants followed the staff's disposition of comments received in response to a notice requesting comment (65 FR 49271, August 11, 2000). The notice of availability for BWR plants followed the staff's disposition of comments received in response to a notice requesting comment (66 FR 66949, December 27, 2001). Each request to eliminate PASS requirements by licensees for Westinghouse, CE, and BWR plants using the CLIIP has also included notices prior to issuance of the subject license amendments and upon issuance.

TSTF-442, as well as the NRC staff's safety evaluation and model application, may be examined, and/or copied for a fee, at the NRC's Public Document Room, located at One White Flint North, 11555 Rockville Pike (first floor), Rockville, Maryland. Publicly available records are accessible electronically from the ADAMS Public Library component on the NRC Web site, (the Electronic Reading Room).

The staff did not receive comments following the notice soliciting comments about modifying the TS requirements regarding post accident sampling for B&W Reactors.

As described in the model application prepared by the staff, licensees may reference in their plant-specific applications to eliminate PASS-related TS the SE and NSHC determination previously published in the Federal Register (68 FR 10052, March 3, 2003).

Dated at Rockville, Maryland, this 6th day of May 2003.
For the Nuclear Regulatory Commission.
Robert L. Dennig,
Section Chief, Technical Specifications Section, Operating Reactor Improvements Program, Division of Regulatory Improvement Programs, Office of Nuclear Reactor Regulation.

Enclosure for Inclusion on Technical Specification Web Page

The following example of an application was prepared by the NRC staff to facilitate the use of the consolidated line item improvement process (CLIIP). The model provides the expected level of detail and content for an application to eliminate pass requirements using CLIIP. Licensees remain responsible for ensuring that their actual application fulfills their Administrative requirements as well as NRC regulations.

U.S. Nuclear Regulatory Commission, Document Control Desk, Washington, DC 20555

Subject:

Plant Name

Docket No. 50-

Application for Technical Specification Improvement to Eliminate Requirements for Post Accident Sampling System for Babcock and Wilcox Reactors Using the Consolidated Line Item Improvement Process

Gentlemen: In accordance with the provisions of 10 CFR 50.90, [LICENSEE] is submitting a request for an amendment to the technical specifications (TS) for [PLANT NAME, UNIT NOS.].

The proposed amendment would delete Technical Specification (TS) 5.5.3, “Post Accident Sampling,” and thereby eliminate the requirements to have and maintain the post accident sampling system at [PLANT]. The changes are consistent with NRC approved Industry/Technical Specification Task Force (TSTF) Standard Technical Specification Change Traveler, TSTF-442, “Elimination of Requirements for a Post Accident Sampling System (PASS).” The availability of this technical specification improvement was announced in the Federal Register on [DATE OF NOTICE OF AVAILABILITY] as part of the consolidated line item improvement process (CLIIP).

Attachment 1 provides a description of the proposed change, the requested confirmation of applicability, and plant-specific verifications. Attachment 2 provides the existing TS pages marked-up to show the proposed change. Attachment 3 provides revised clean technical specification pages. Attachment 4 provides a summary of the regulatory commitments made in this submittal. [IF APPLICABLE: Attachment 5 provides the existing TS Bases pages marked-up to show the proposed change (for information only).]

[LICENSEE] requests approval of the proposed License Amendment by [DATE], with the amendment being implemented [BY DATE OR WITHIN X DAYS].

In accordance with 10 CFR 50.91, a copy of this application, with attachments, is being provided to the designated [STATE] Official.

I declare under penalty of perjury under the laws of the United States of America that I am authorized by [LICENSEE] to make this request and that the foregoing is true and correct. [Note that request may be notarized in lieu of using this oath or affirmation statement].

If you should have any questions regarding this submittal, please contact [ ].

Sincerely,

Name,

Title

Attachments:

1. Description and Assessment

2. Proposed Technical Specification Changes

3. Revised Technical Specification Pages

4. Regulatory Commitments

5. Proposed Technical Specification Bases Changes (if applicable)

cc:

NRR Project Manager

Regional Office

Resident Inspector

State Contact

Attachment 1—Description and Assessment

1.0 DESCRIPTION

The proposed License amendment deletes the program requirements of TS (5.5.3), “Post Accident Sampling.”

The changes are consistent with NRC approved Industry/Technical Specification Task Force (TSTF) Standard Technical Specification Change Traveler, TSTF-442. The availability of this technical specification improvement was announced in the Federal Register on [DATE] as part of the consolidated line item improvement process (CLIIP).

2.0 ASSESSMENT

2.1 Applicability of Published Safety Evaluation

[LICENSEE] has reviewed the safety evaluation published on March 3, 2003 (68 FR 10052) as part of the CLIIP. This verification included a review of the NRC staff's evaluation as well as the supporting information provided to support TSTF-442 (i.e., BAW -2387, “Justification for the Elimination of the Post Accident Sampling System (PASS) from the Licensing Basis of Babcock and Wilcox-Designed Plants,” which was submitted to the NRC on June 25, 2001, and the associated NRC safety evaluation dated November 14, 2002). [LICENSEE] has concluded that the justifications presented in the TSTF proposal and the safety evaluation prepared by the NRC staff are applicable to [PLANT, UNIT NOS.] and justify this amendment for the incorporation of the changes to the [PLANT] Technical Specifications.

2.2 Optional Changes and Variations

[LICENSEE] is not proposing any variations or deviations from the technical specification changes described in TSTF-442 or the NRC staff's model safety evaluation published on March 3, 2003.

Plant-specific submittals may also include one or more of the following:

(1) Requirements for installing and maintaining PASS were included in a confirmatory order for [PLANT] issued on [DATE]. This amendment request includes superseding the requirements imposed by that confirmatory order.

(2) As described in the model safety evaluation published on March 3, 2003, the elimination of the TS and other regulatory requirements for PASS result in additional changes to the TS. These changes are [DESCRIBE ADDITIONAL CHANGES]. The changes are necessary due to the removal of the TS section on PASS. The changes do not revise technical requirements beyond that addressed by the NRC staff in the model safety evaluation published on March 3, 2003. [Note that these changes could involve the deletion or modification of license conditions in addition to other TS.]

(3) The elimination of PASS results in changes to the TS Bases. The revised Bases are provided in Attachment 5. [LICENSEE] will formally address the changes to the Bases in accordance with [the Bases Control Program or administrative procedure for revising Bases] and will provide the actual revised Bases pages in a future submittal.

3.0 REGULATORY ANALYSIS

3.1 No Significant Hazards Determination

[LICENSEE] has reviewed the proposed no significant hazards consideration determination published on March 3, 2003 (68 FR 10052) as part of the CLIIP. [LICENSEE] has concluded that the proposed determination presented in the notice is applicable to [PLANT] and the determination is hereby incorporated by reference to satisfy the requirements of 10 CFR 50.91(a).

3.2 Verification and Commitments

As discussed in the model SE published in Federal Register on March 3, 2003 for this technical specification improvement, plant-specific verifications were performed as follows:

1. [LICENSEE] [verified that it has or is making a regulatory commitment to develop] contingency plans for obtaining and analyzing highly radioactive samples from the RCS, containment sump, and containment atmosphere. The contingency plans will be contained in [specified document or program] and implementation [is complete, will be completed with the implementation of the License amendment, or will be completed within X days (<6 months) after the implementation of the License amendment]. Establishment and maintenance of contingency plans is considered a regulatory commitment.

2. The capability for classifying fuel damage events at the Alert level threshold [has been or will be] established for [PLANT] at radioactivity levels of [300 mCi/cc dose equivalent iodine]. This capability will be described in [specified document or program] and implementation [is complete, will be completed with the implementation of the License amendment, or will be completed within X days (<6 months) after the implementation of the License amendment]. The capability for classifying fuel damage events is considered a regulatory commitment.

3. [LICENSEE] [verified that it has or is making a regulatory commitment to develop] an ability to assess radioactive iodines released to offsite environs. The capability for monitoring iodines will be maintained within the [specified document or program]. Implementation of this commitment [is complete, will be completed with the implementation of the License amendment, or will be completed within X days (<6 months) after the implementation of the License amendment]. The capability to monitor radioactive iodines is considered a regulatory commitment.

4.0 ENVIRONMENTAL EVALUATION

[LICENSEE] has reviewed the environmental evaluation included in the model safety evaluation published on March 3, 2003 (68 FR 10052) as part of the CLIIP. [LICENSEE] has concluded that the staff's findings presented in that evaluation are applicable to [PLANT] and the evaluation is hereby incorporated by reference for this application.

Attachment 2—Proposed Technical Specification Changes (Mark-Up)

Attachment 3—Proposed Technical Specification Pages

Attachment 4—List of Regulatory Commitments

The following table identifies those actions committed to by [LICENSE] in this document. Any other statements in this submittal are provided for information purposes and are not considered to be regulatory commitments. Please direct questions regarding these commitments to [ ].

Regulatory commitments | Due date/event
[LICENSEE] [verified that it has or is making a regulatory commitment to develop] contingency plans for obtaining and analyzing highly radioactive samples from the RCS, containment sump, and containment atmosphere. The contingency plans will be contained in [specified document or program] and implementation [is complete, will be completed with the implementation of the License amendment, or will be completed within x days (< 6 months) after the implementation of the License amendment]. Establishment and maintenance of contingency plans is considered a regulatory commitment | [Complete, implemented with amendment OR within X days of implementation of amendment].
The capability for classifying fuel damage events at the Alert level threshold [has been or will be] established for [PLANT] at radioactivity levels of [300 mCi/cc dose equivalent iodine]. This capability will be described in [specified document or program] and implementation [is complete, will be completed with the implementation of the License amendment, or will be completed within x days (< 6 months) after the implementation of the License amendment]. The capability for classifying fuel damage events is considered a regulatory commitment | [Complete, implemented with amendment OR within X days of implementation of amendment].
[LICENSEE] [verified that it has or is making a regulatory commitment to develop] an ability to assess radioactive iodines released to offsite environs. The capability for monitoring iodines will be maintained within the [specified document or program]. Implementation of this commitment [is complete, will be completed with the implementation of the License amendment, or will be completed within x days (< 6 months) after the implementation of the License amendment]. The capability to monitor radioactive iodines is considered a regulatory commitment | [Complete, implemented with amendment OR within X days of implementation of amendment].

Attachment 5—Possible Changes to TS Bases Pages

[FR Doc. 03-11840 Filed 5-12-03; 8:45 am]

BILLING CODE 7590-01-P